DEPARTMENT OF ENERGY

Federal Energy Regulatory Commission

[Docket Nos. ER05-1410-012; EL05-148-012; Docket No. ER09-412-001]

PJM Interconnection, L.L.C.; PJM Interconnection, L.L.C.; Notice Deferring Technical Conference

February 18, 2009.

In PJM Interconnection, L.L.C., 124 FERC ¶ 61,272, at P 53 (2008), the Commission indicated that it expected to hold a technical conference in this proceeding in February 2009. The date of that conference is hereby deferred pending further notice.

Kimberly D. Bose,
Secretary.

[FR Doc. E9-3969 Filed 2-24-09; 8:45 am]

BILLING CODE 6717-01-P